DEPARTMENT OF HOMELAND SECURITY

Coast Guard

33 CFR Part 165

[Docket No. USCG-2009-0469]

Security and Safety Zone Regulations, Large Passenger Vessel Protection, Portland, OR Captain of the Port Zone

AGENCY: Coast Guard, DHS.

ACTION: Notice of enforcement of regulation.

SUMMARY: The Coast Guard will enforce the security and safety zone in 33 CFR 165.1318 for large passenger vessels operating in the Portland, Oregon Captain of the Port Zone during the dates and times listed in DATES. This action is necessary to ensure the security and safety of the large passenger vessels, including their crew and passengers, as well as the maritime public. During the enforcement period, no person or vessel may enter or remain in the security and safety zone without permission of the Captain of the Port, Portland, Oregon.

DATES: The regulations in 33 CFR 165.1318 will be enforced during the following dates and times for the vessels noted:

(1) LPV Carnival Splendor: From 7 a.m. June 9, 2009, through 12 a.m. (midnight) June 10, 2009.

(2) LPV Carnival Splendor: From 7 a.m. June 16, 2009, through 12 a.m. (midnight) June 17, 2009.

(3) LPV The World: From 7 a.m. June 19, 2009, through 12 a.m. (midnight) June 20, 2009.

(4) LPV Norwegian Pearl: From 7 a.m. September 22, 2009, through 12 a.m. (midnight) September 23, 2009.

(5) LPV Norwegian Star: From 7 a.m. September 22, 2009, through 12 a.m. (midnight) September 23, 2009.

(6) LPV Serenade of the Seas: From 7 a.m. September 29, 2009, through 12 a.m. (midnight) September 30, 2009.

(7) LPV Veendam: From 5:30 a.m. September 29, 2009, through 12 a.m. (midnight) September 30, 2009.

(8) LPV Millennium: From 7 a.m. October 3, 2009, through 12 a.m. (midnight) October 4, 2009.

(9) LPV Mercury: From 7 a.m. October 16, 2009, through 12 a.m. (midnight) October 17, 2009.

FOR FURTHER INFORMATION CONTACT: If you have questions on this notice, call or e-mail MST1 Jaime Sayers, U.S. Coast Guard Sector Portland, Waterways Management Branch; telephone 503-240-9319, e-mail Jaime.A.Sayers@uscg.mil.

SUPPLEMENTARY INFORMATION: The Coast Guard will enforce the security and safety zone regulation in 33 CFR 165.1318 for large passenger vessels operating in the Portland, Oregon Captain of the Port Zone during the dates and times listed in DATES.

Under the provisions of 33 CFR 165.1318 and 33 CFR 165 Subparts C and D, no person or vessel may enter or remain in the security and safety zone without permission of the Captain of the Port, Portland, Oregon. Persons or vessels wishing to enter the safety and security zone may request permission to do so from the on scene Captain of the Port representative via VHF Channel 16 or 13. The Coast Guard may be assisted by other Federal, State, or local enforcement agencies in enforcing this regulation.

This notice is issued under authority of 33 CFR 165.1318 and 5 U.S.C. 552(a). In addition to this notice in the Federal Register, the Coast Guard will provide the maritime community with notification of the enforcement periods via a Local Notice to Mariners.

Dated: June 22, 2009.
F.G. Myer,
Captain, U.S. Coast Guard, Captain of the Port, Portland.

[FR Doc. E9-15951 Filed 7-6-09; 8:45 am]

BILLING CODE 4910-15-P